FEDERAL ELECTION COMMISSION

11 CFR Parts 100, 106, and 109

[Notice 2016-11]

Rulemaking Petition: Political Party Rules

AGENCY: Federal Election Commission.

ACTION: Rulemaking Petition: Notice of availability.

SUMMARY: On June 15, 2016, the Federal Election Commission received a Petition for Rulemaking asking the Commission to revise existing rules regarding the use of federal funds to pay for certain activities of state, district, or local committees of a political party. The Commission seeks comments on this petition.

DATES: Comments must be submitted on or before January 30, 2017.

ADDRESSES: All comments must be in writing. Commenters are encouraged to submit comments electronically via the Commission's Web site at http://www.fec.gov/fosers, reference REG 2016-03, or by email to PoliticalPartyRules@fec.gov. Alternatively, commenters may submit comments in paper form, addressed to the Federal Election Commission, Attn.: Mr. Neven F. Stipanovic, Acting Assistant General Counsel, 999 E Street NW., Washington, DC 20463.

Each commenter must provide, at a minimum, his or her first name, last name, city, state, and zip code. All properly submitted comments, including attachments, will become part of the public record, and the Commission will make comments available for public viewing on the Commission's Web site and in the Commission's Public Records room. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Mr. Neven F. Stipanovic, Acting Assistant General Counsel, or Mr. Joseph P. Wenzinger, Attorney, Office of General Counsel, 999 E Street NW., Washington, DC 20463, (202) 694-1650 or (800) 424-9530.

SUPPLEMENTARY INFORMATION: On June 15, 2016, the Federal Election Commission received a Petition for Rulemaking from the Minnesota Democratic-Farmer-Labor Party and its Chair, Ken Martin, requesting that the Commission amend several regulations applicable to political parties.

First, the Federal Election Campaign Act, 52 U.S.C. 30101-46 (the “Act”), as amended by the Bipartisan Campaign Reform Act (“BCRA”), and Commission regulations provide that a state, district, or local committee of a political party must pay for “Federal election activity” with either entirely federal funds or, in other instances, a mix of federal funds and “Levin funds.” See 52 U.S.C. 30125(b); 11 CFR 300.32. Under Commission regulations, “Federal election activity” includes certain activities that urge, encourage, or assist people to register to vote or to vote. See 11 CFR 100.24; Definition of Federal Election Activity, 75 FR 55257, 55260 (Sept. 10, 2010). The petitioners request that the Commission narrow this definition.

Second, Commission regulations provide that political parties must use a federal account to pay the salary, wages, and fringe benefits of an employee who spends more than 25 percent of that individual's time on “Federal election activities” or on conduct “in connection with a Federal election.” See 11 CFR 106.7(d)(1)(i)-(ii). The petitioners ask the Commission to amend this rule to omit “Federal election activities” from the calculation, covering only activities “in connection with a Federal election.”

Finally, the petitioners ask the Commission to consider additional regulatory modifications listed in Commission Agenda Document No. 15-54-A, a proposed resolution that recommended amending several rules to (1) allow political parties “to discuss issue advertisements with candidates,” “republish parts of candidate materials in party materials,” and “distribute volunteer campaign materials without triggering coordination limits,” see 11 CFR 109.37; (2) “[e]xpand political party freedom to engage in volunteer activities such as volunteer mail drives, phone banks, and literature distribution,” see id. 100.87, 100.147; and (3) modify the definition of “Federal election activity” to permit “political parties to register voters and urge citizens to vote on behalf of state and local candidates free from FEC regulation” and to “employ people to engage in state and local get-out-the-vote activities with state funds,” see id. 100.24.

The Commission seeks comments on the petition. The public may inspect the Petition for Rulemaking on the Commission's Web site at http://www.fec.gov/fosers, or in the Commission's Public Records Office, 999 E Street NW., Washington, DC 20463, Monday through Friday, from 9 a.m. to 5 p.m. Interested persons may also obtain a copy of the petition by dialing the Commission's Faxline service at (202) 501-3413 and following its instructions. Request document #283.

The Commission will not consider the petition's merits until after the comment period closes. If the Commission decides that the petition has merit, it may begin a rulemaking proceeding. The Commission will announce any action that it takes in the Federal Register.

On behalf of the Commission,
Dated: September 29, 2016.
Matthew S. Petersen,
Chairman, Federal Election Commission.

[FR Doc. 2016-24310 Filed 10-6-16; 8:45 am]

BILLING CODE 6715-01-P